DEPARTMENT OF ENERGY

Federal Energy Regulatory Commission

[Docket No. RP02-547-001]

National Fuel Gas Supply Corporation; Notice of Compliance Filing

November 19, 2002.

Take notice that on November 15, 2002 National Fuel Gas Supply Corporation (National Fuel) tendered for filing as part of its FERC Gas Tariff, Fourth Revised Volume No. 1, the tariff sheets listed in its filing.

National Fuel states that this filing is being made in compliance with the Commission's Order issued on October 16, 2002, in the above-referenced docket. The October 16 Order directed National Fuel to file revised tariff sheets to clarify certain provisions found in Section 10.8 of its General Terms and Conditions which provides National Fuel with the authority to terminate capacity release awards upon termination of the releasing shipper's contract or award and defines replacement shippers' rights in this situation.

National Fuel states that copies of this filing were served upon its customers, interested state commissions and the parties on the official service list compiled by the Secretary in this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's website at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's web site under the “e-Filing” link.

Linwood A. Watson, Jr.,
Deputy Secretary.

[FR Doc. 02-29858 Filed 11-22-02; 8:45 am]

BILLING CODE 6717-01-P